DEPARTMENT OF HEALTH AND HUMAN SERVICES

Health Resources and Services Administration

Solicitation of Nominations for Membership To Serve on the National Advisory Council on Migrant Health

AGENCY: Health Resources and Services Administration (HRSA), Department of Health and Human Services (HHS).

ACTION: Request for nominations.

SUMMARY: HRSA is seeking nominations of qualified candidates to be considered for appointment as members of the National Advisory Council on Migrant Health (NACMH). The NACMH consults with and makes recommendations to the HHS Secretary concerning the organization, operation, selection, and funding of migrant health centers (MHC) and other entities funded under grants and contracts under section 330(g) of the Public Health Service (PHS) Act. HRSA is seeking nominations to fill up to three positions on the NACMH.

DATES: HRSA will receive written nominations for NACMH membership on a continuous basis.

ADDRESSES: Nomination packages must be submitted in hard copy to the Designated Federal Official (DFO), NACMH, Strategic Initiatives and Planning Division, Office of Policy and Program Development, Bureau of Primary Health Care, HRSA, 16N38B, 5600 Fishers Lane, Rockville, Maryland 20857.

FOR FURTHER INFORMATION CONTACT: All requests for information regarding NACMH nominations should be sent to Esther Paul, DFO, NACMH, HRSA by sending an email to hrsabphcoppdnacmh@hrsa.gov. A copy of the NACMH charter and list of the current membership are available on the NACMH website at https://bphc.hrsa.gov/qualityimprovement/strategicpartnerships/nacmh/index.html.

SUPPLEMENTARY INFORMATION: NACMH was established and authorized under section 217 of the PHS Act, as amended (42 U.S.C. 218), to consult with and make recommendations to the HHS Secretary concerning the organization, operation, selection, and funding of MHCs, and other entities under grants and contracts under section 330 of the PHS Act (42 U.S.C. 254b). The NACMH meets twice each calendar year, or at the discretion of the DFO in consultation with the NACMH Chair.

Nominations: HRSA is seeking nominations for voting members to serve as Special Government Employees (SGEs) on the NACMH to fill three open positions. Specifically, HRSA is requesting nominations for the following positions: Board Member/Patient (1 nominee) and Administrator/Provider (2 nominees). The Board Member/Patient nominee must be a member or member-elect of a governing board of an organization receiving funding under section 330(g) of the PHS Act. The board member nominee must also be a patient of the health center that he/she represents. Additionally, a board member nominee must be familiar with the delivery of primary health care to migratory and seasonal agricultural workers (MSAWs) and their families. The Administrator/Provider nominees must be qualified by training and experience in the medical sciences or in the administration of health programs for MSAWs and their families. Interested applicants may be nominated by another individual or organization.

The Secretary appoints NACMH members with the expertise needed to fulfill the duties of the Advisory Committee. The membership requirements set-forth in section 217 of the PHS Act, as amended (42 U.S.C. 218), require that the NACMH consist of 15 members, at least 12 of whom shall be members of the governing boards of MHCs or other entities assisted under section 330 of the PHS Act (42 U.S.C. 254b). Of such 12 members, at least nine shall be chosen from among those members served by such health centers and familiar with the delivery of health care to MSAWs. The remaining three NACMH members shall be individuals qualified by training and experience in the medical sciences or in the administration of health programs. New members filling a vacancy that occurred prior to expiration of a term may serve only for the remainder of such term. Members may serve after the expiration of their terms until their successors have taken office, but no longer than 120 days. Nominees must reside in the United States, and international travel cannot be funded.

Individuals selected for appointment to the NACMH will be appointed for four year terms. Members appointed as SGEs receive a stipend and reimbursement for per diem and travel expenses incurred for attending NACMH meetings, as authorized by 5 U.S.C. 5703 for persons employed intermittently in government service.

The following information must be included in the package of materials submitted for each individual nominated for consideration: (1) A NACMH nomination form, which can be requested by contacting the DFO at the email provided above; (2) three letters of reference; (3) a statement of prior service on the NACMH; and (4) a current copy of the nominee's curriculum vitae. Nomination packages may be submitted directly by the individual being nominated or by the person/organization recommending the candidate.

HHS endeavors to ensure that the membership of the NACMH is fairly balanced in terms of points of view represented and that individuals from a broad representation of geographic areas, gender, and ethnic and minority groups, as well as individuals with disabilities, are considered for membership. Appointments shall be made without discrimination on the basis of age, race, color, national origin, sex, disability, or religion.

Individuals who are selected to be considered for appointment will be required to provide detailed information regarding their financial holdings, consultancies, and research grants or contracts. Disclosure of this information is required in order for HRSA ethics officials to determine whether there is a potential conflict of interest between the SGE's public duties as a member of the NACMH and their private interests, including an appearance of a loss of impartiality as defined by federal laws and regulations, and to identify any required remedial action needed to address the potential conflict.

Authority: NACMH is authorized under section 217 of the PHS Act, as amended (42 U.S.C. 218), and established by the Secretary. It is governed by the Federal Advisory Committee Act (5 U.S.C. Appendix 2) (FACA), which sets forth standards for the formation and use of advisory committees.

Maria G. Button,
Director, Executive Secretariat.

[FR Doc. 2020-26956 Filed 12-7-20; 8:45 am]

BILLING CODE 4165-15-P